ENVIRONMENTAL PROTECTION AGENCY

[ER-FRL-9008-5]

Environmental Impacts Statements; Notice of Availability

Responsible Agency: Office of Federal Activities, General Information (202) 564-7146 or http://www.epa.gov/compliance/nepa/.

Weekly receipt of Environmental Impact Statements Filed 03/25/2013 Through 03/29/2013

Pursuant to 40 CFR 1506.9.

Notice

Section 309(a) of the Clean Air Act requires that EPA make public its comments on EISs issued by other Federal agencies. EPA's comment letters on EISs are available at: http://www.epa.gov/compliance/nepa/eisdata.html.

EIS No. 20130080, Final EIS, BLM, CA, Clear Creek Management Area Proposed Resource Management Plan, Review Period Ends: 05/06/2013, Contact: Sky Murphy (831) 630-5039.

EIS No. 20130081, Draft EIS, USFWS, IN, Fowler Ridge Wind Habitat Conservation Plan and Incidental Take Permit, Comment Period Ends: 06/04/2013, Contact: Scott Pruitt 812-334-4261.

EIS No. 20130082, Draft Supplement, FERC, ME, Downeast Liquefied Natural Gas (LNG) Project, Comment Period Ends: 05/20/2013, Contact: Shannon Crosley 202-502-8853.

EIS No. 20130083, Draft EIS, NPS, NC, Fort Raleigh National Historic Site Draft General Management Plan, Comment Period Ends: 06/04/2013, Contact: David Libman 404-507-5701.

EIS No. 20130084, Final EIS, USFS, CO, Black Mesa Vegetation Management Project, Rio Grande National Forest, Review Period Ends: 05/17/2013, Contact: Diana McGinn 719-852-6241.

EIS No. 20130085, Final EIS, USACE, OK, Eufaula Lake Shoreline Management Plan Revision and Master Plan Supplement, Review Period Ends: 05/06/2013, Contact: Jeff Knack 918-669-7666.

Dated: April 2, 2013.
Cliff Rader,
Director, NEPA Compliance Division, Office of Federal Activities.

[FR Doc. 2013-07982 Filed 4-4-13; 8:45 am]

BILLING CODE 6560-50-P